FEDERAL COMMUNICATIONS COMMISSION

47 CFR Part 73

[DA 01-1828, MM Docket No. 01-171, RM-10158]

Television Broadcast Service; Destin, FL

AGENCY: Federal Communications Commission.

ACTION: Proposed rule.

SUMMARY: The Commission requests comments on a petition filed by Kaleidoscope Partners, E. Terrill Weiss d/b/a West Florida TV Acquisition Company, Delta Media Corporation, Marri Broadcasting Corporation, ValueVision International, Inc., and Winstar Broadcasting Corporation, mutually exclusive applicants for a construction permit for a new TV station on channel 64+ at Destin, Florida, requesting the substitution of channel 48 for channel 64+ at Destin. TV channel 48 can be allotted to Destin, Florida, in compliance with Section 73.623(c) of the Commission's Rules with a zero offset at coordinates 30-30-52 N. and 86-13-12 W. Pursuant to the provisions outlined in the Commission's Public Notice, released November 22, 1999, DA 99-2605, we will not accept competing expressions of interest in the use of TV channel 48 at Destin.

DATES: Comments must be filed on or before September 24, 2001, and reply comments on or before October 9, 2001.

ADDRESSES: Federal Communications Commission, 445 12th Street, S.W., Room TW-A325, Washington, DC 20554. In addition to filing comments with the FCC, interested parties should serve the petitioner, or its counsel or consultant, as follows: Howard M. Weiss, Fletcher, Heald & Hildreth, PLC, 11th Floor, 1300 North 17th Street, Arlington, Virginia 22209-3801 (Counsel for joint applicants).

FOR FURTHER INFORMATION CONTACT: Pam Blumenthal, Mass Media Bureau, (202) 418-1600.

SUPPLEMENTARY INFORMATION: This is a synopsis of the Commission's Notice of Proposed Rule Making, MM Docket No. 01-171, adopted July 31, 2000, and released August 2, 2000. The full text of this Commission decision is available for inspection and copying during normal business hours in the FCC Reference Center 445 12th Street, SW., Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.606 [Amended]

2. Section 73.606(b), the Table of Television Allotments under Florida is amended by removing TV Channel 64+ and adding TV Channel 48 at Destin.

Federal Communications Commission.
Barbara A. Kreisman,
Chief, Video Services Division, Mass Media Bureau.

[FR Doc. 01-19504 Filed 8-3-01; 8:45 am]

BILLING CODE 6172-01-P